DEPARTMENT OF LABOR

Employee Benefits Security Administration

Proposed Information Collection Request Submitted for Public Comment; Retirement Savings Lost and Found

AGENCY: Employee Benefits Security Administration, Department of Labor.

ACTION: Notice.

SUMMARY: The Department is proposing to collect information voluntarily in order to establish the Retirement Savings Lost and Found online searchable database described in section 523 of the Employee Retirement Income Security Act of 1974 (ERISA) and to connect missing participants and other individuals who have lost track of their retirement benefits with such benefits. The proposal solicits specific information from administrators of retirement plans subject to ERISA. Pursuant to the Paperwork Reduction Act of 1995 (PRA), the Department of Labor's Employee Benefits Security Administration (Department or EBSA) is soliciting comments on the proposed information collection request (ICR) described below.

DATES: Written comments must be submitted to the office shown in the ADDRESSES section on or before June 17, 2024.

ADDRESSES: James Butikofer, U.S. Department of Labor, Employee Benefits Security Administration, Office of Research and Analysis, 200 Constitution Avenue NW, N-5718, Washington, DC 20210, ebsa.opr@dol.gov.

SUPPLEMENTARY INFORMATION:

I. Introduction and Summary of Burden

This notice requests public comment on the Department's proposed collection of information from plan administrators of retirement plans subject to ERISA for the purpose of establishing the Retirement Savings Lost and Found online searchable database to reunite workers with retirement benefits earned over their working lives and to help the Department assist them in that effort. A summary of the current burden estimates follows:

Agency: Employee Benefits Security Administration, U.S. Department of Labor.

Title: Retirement Savings Lost and Found.

OMB Control Number: 1210-NEW.

Affected Public: Not-for-profit institutions, Businesses or other for-profits.

Respondents: 359,368.

Responses: 359,368.

Estimated Total Burden Hours: 239,579.

Estimated Total Burden Cost (Operating and Maintenance): $0.

II. Description

A. Background

Section 303 of the SECURE 2.0 Act of 2022, which was enacted on December 29, 2022 (SECURE 2.0),¹ amended part 5 of subtitle B of title I of ERISA to add Section 523, which requires the Department, not later than 2 years after the date of enactment and in consultation with the Secretary of the Treasury, to create an online searchable database, to be known as the Retirement Savings Lost and Found. Among other things, SECURE 2.0 requires that this database allow retirement savers who may have lost track of their retirement plan to search for the contact information of their plan administrator in order to make a claim for benefits that may be owing to the individual under the plan.

¹ Consolidated Appropriations Act, 2023, H.R. 2617.

Separate from the database required by SECURE 2.0, the Department administers the Terminated Vested Participants Project (TVPP or missing participant program). The TVPP has three key objectives for defined benefit pension plans. First, to ensure these plans maintain adequate census and other records necessary to determine (a) the identity and address of participants and beneficiaries due benefits under the plan, (b) the amount of benefits due under the plan, and (c) when participants and beneficiaries are eligible to commence benefits. Second, to ensure these plans have appropriate procedures for advising participants with vested accrued benefits of their eligibility to apply for benefits as they near normal retirement age and the date they must start required minimum distributions under federal tax law. Third, to ensure these plans implement appropriate search procedures for terminated participants and beneficiaries for whom they have incorrect or incomplete information. Since 2017, the Department has recovered more than $6.7 billion for such “missing” participants and beneficiaries.

The Department's experience indicates that retirement plan administrators lose track of participants and beneficiaries, and participants and beneficiaries lose track of their retirement benefits for many reasons. For example, sometimes plans may be unable to communicate with individuals who separated from service with deferred vested benefits, or their designated beneficiaries, because of inadequate recordkeeping practices, ineffective processes for communicating with such participants and beneficiaries, and faulty procedures for searching for participants and beneficiaries for whom they have incorrect or incomplete contact information. In addition, sometimes after workers change jobs, their former employers that sponsor the retirement plans go out of business or go through corporate events such as a merger, consolidation, or spinoff.

There is no more fundamental purpose of a retirement plan under ERISA than paying promised benefits. See 29 U.S.C. 1001. Losing track of individuals after long years of plan participation deprives workers and their families their full earned retirement benefits. The Department believes that it is united with plan sponsors and administrators in the goal of making sure that workers and their beneficiaries receive the retirement benefits they earned and were promised. By providing the data requested by this proposed ICR to enable the Department to establish and maintain the Retirement Savings Lost and Found online searchable database, retirement plans will make it more likely that promised benefits will be paid.

As an initial matter, the Department is seeking voluntary participation in this proposed ICR. The Department had planned to use data that plan administrators submitted to the Internal Revenue Service (IRS) on Form 8955-SSA (Annual Registration Statement Identifying Separated Participants With Deferred Vested Benefits). However, citing concerns under section 6103 of the Internal Revenue Code (Code),² IRS has now indicated that it will not authorize the release of this data to the Department for the purpose of communicating either directly with participants and beneficiaries about retirement plans that may still owe them retirement benefits or indirectly through the Retirement Savings Lost and Found online searchable database. Accordingly, the Department is proposing to request plan administrators to voluntarily furnish the information specified below directly to the Department.

² See 26 U.S.C. 6103 (confidentiality and disclosure of returns and return information).

By collecting this data, the Department is optimistic that it can work together with plan administrators to further reduce the number of missing participants and promote the payment of promised benefits, thus, helping plan administrators and other fiduciaries resolve issues and inaccuracies in the plans' books and records, and better comply with their fiduciary obligations.

B. Overview of Requested Data

This notice proposes to request that plan administrators (or their authorized representatives, such as recordkeepers) voluntarily provide the information described in sections III through V below. This information is needed by the Department to establish the Retirement Savings Lost and Found online searchable database no later than December 29, 2024. The Retirement Savings Lost and Found online searchable database will enable individuals to locate benefits they are owed by providing them with contact information for their plan administrator, the designated trustee or issuer described in section 401(a)(31)(B) of the Code, or the issuer of an annuity described in section 523(e)(3)(C) of ERISA.

Section 523(e) of ERISA expressly authorizes the Department to collect information described in sections 6057(b)(1) through (4) and 6057(a)(2)(A) and (B) of the Code. It also authorizes the Department to collect the names and social security numbers of participants and former participants described in Code section 6057(a)(2)(C) (i.e., individuals who separated from service covered under their plans and who are entitled to deferred vested benefits) and identify those who were fully paid their deferred vested benefits. Finally, it also authorizes the Department to collect the names and social security numbers of each participant or former participant in the plan with respect to whom vested benefits were distributed under section 401(a)(31)(B) of the Code or to whom a deferred annuity contract was distributed.

Much of the foregoing information is currently reported to the IRS on Form 8955-SSA.³ The information reported on Forms 8955-SSA is generally provided by the IRS to the Social Security Administration (SSA). The SSA then provides the reported information to separated vested participants when they file for social security benefits. Pursuant to section 523(c) of ERISA, the Department consulted with the Secretary of the Treasury and IRS on the Retirement Savings Lost and Found online searchable database and had planned to use the data reported on Form 8955-SSA to populate the database. As noted above, however, the IRS has now declined to give this information to the Department to establish and maintain the Retirement Savings Lost and Found online searchable database, citing concerns under section 6103 of the Code.

³ The Form 8955-SSA is the designated successor to Schedule SSA (Form 5500). The Schedule SSA attachment to the Form 5500 was the vehicle the IRS used to collect this information until the Schedule SSA was replaced by the stand-alone IRS Form 8955-SSA.

In addition to the data elements specifically described in section 523(e) of ERISA, the Department is asking for the voluntary submission of additional data. The additional data requested consists mainly of mailing addresses, email addresses, and telephone numbers of separated vested participants and beneficiaries. It also includes an identification of any separated vested participant of normal retirement age or older owed a vested benefit, and who has been unresponsive to plan communications about their vested benefits or whose contact information the plan has reason to believe is no longer accurate. Based on its experience with the missing participant program, the Department believes this additional data may increase the efficiency and effectiveness of locating missing participants. Although this proposed ICR is voluntary, the Department notes that, in addition to the specific grant of authority in section 523(e) of ERISA, mentioned above, the Department has general authority to investigate and collect information under other sections of ERISA, including sections 504 and 505 of ERISA, as well as to verify participants' and beneficiaries' identities under the Retirement Savings Lost and Found online searchable database. The Department further notes that, although this proposed ICR does not impose any new recordkeeping requirements, the Department expects plans that follow best practices will already have much of this additional information on file.

Section 523(c) of ERISA, in relevant part, provides that in establishing the Retirement Savings Lost and Found online searchable database, the Department, in consultation with the Secretary of the Treasury, shall take all necessary and proper precautions to ensure that individuals' plan and personal information maintained by the Retirement Savings Lost and Found online searchable database is protected. Consistent with this provision, the Department will hold the data specifically required by section 523(e) of ERISA secure, verify the identity of participants and beneficiaries seeking access to the data, and limit disclosure to carry out the purposes of section 523 of ERISA. Section VI of this document describes the data security measures in more detail.

To provide an easy and efficient process for plans to furnish the information requested by this proposed ICR, the Department is proposing that plan administrators would provide the information in an attachment to their 2023 Form 5500 Annual Return/Report of Employee Benefit Plan or 2023 Form 5500-SF Short Form Annual Return/Report of Small Employee Benefit Plan, as applicable, (collectively Form 5500) using the all-electronic ERISA Filing Acceptance System (EFAST2). The information would be filed with the Form 5500 in accordance with instructions in EFAST2. Although the information would be submitted through EFAST2 along with the plan's Form 5500, the attachment itself would not be considered part of the Form 5500 annual report filing for purposes of Title I of ERISA. As the agency moves forward with the program, it is looking into providing other simple and efficient means of furnishing the data to the Retirement Savings Lost and Found online searchable database.

Finally, in an effort to establish the most effective Retirement Savings Lost and Found online searchable database possible, this proposed ICR asks for specific information dating back to the date a covered plan became subject to ERISA. The Department recognizes that some plans may not have retained such historical data. Nevertheless, to the extent that information is available, the Department encourages plan administrators to provide historic information from the date the plan first became subject to ERISA or as far back as possible, if shorter.

III. Plans With Separated Vested Participants

For any plan with a participant or former participant described in 26 U.S.C. 6057(a)(2)(C) (“separated vested participant”), provide the following information with respect to that plan:

1. Name and plan number of plan as reflected on the most recent Form 5500 Annual Return/Report of Employee Benefit Plan or Form 5500-SF Short Form Annual Return/Report of Employee Benefit Plan (individually and collectively “Form 5500”). If the plan had names other than the name on the most recent Form 5500, provide the prior names and plan numbers and include the date of change.

2. Name, employer identification number (EIN), mailing address, and telephone number of the plan administrator as reflected on the most recent Form 5500. If the plan had plan administrators other than the plan administrator on the most recent Form 5500, provide the names and EINs of the prior plan administrators and include the date of change.

3. Name, EIN, mailing address, and telephone number of the plan sponsor as reflected on the most recent Form 5500, if different than the plan administrator. If the plan had plan sponsors other than the plan sponsor on the most recent Form 5500, provide the names and EINs of the prior plan sponsors and include the date of change.

4. Name, date of birth, mailing address, email address, telephone number, and social security number (SSN) of each separated vested participant.

5. Nature, form, and amount of benefit of each separated vested participant.

6. If the vested benefit of each such separated vested participant was fully paid in a form other than an annuity (i.e., lump sum payout) to the separated vested participant, provide the date and the amount of the distribution.

7. If an annuity form of benefit, state whether the separated vested participant has begun receiving benefits, the date of the annuity commencement, and the monthly benefit.

8. Name, date of birth, mailing address, email address, telephone number, and SSN of any separated vested participant of normal retirement age or older that is owed a vested benefit, and who has been unresponsive to plan communications about their benefits or whose contact information as set forth in paragraph 4 above, the plan has reason to believe is no longer accurate.

9. Name, date of birth, mailing address, email address, telephone number, and SSN of any designated beneficiary of the separated vested participant.

10. With respect to any participant whose benefit was transferred to the plan in the manner described in Line 9 of the Form 8955-SSA, provide the name and plan number of the transferor plan. Include the date of transfer to the plan.

IV. Plans That Distributed Benefits Under Section 401(a)(31)(B) of the Internal Revenue Code

For any plan that distributed benefits under section 401(a)(31)(B) of the Code, provide the following information with respect to the plan:

1. Name of plan and plan number as reflected on the most recent Form 5500. If the plan had names other than the name on the most recent Form 5500, provide the prior names and plan numbers to include the date of change.

2. Name, EIN, mailing address, and telephone number of the plan administrator as reflected on the most recent Form 5500. If the plan had plan administrators other than the plan administrator on the most recent Form 5500, provide the names and EINs of the prior plan administrators and include the date of change.

3. Name, EIN, mailing address, and telephone number of the plan sponsor as reflected on the most recent Form 5500, if different than the plan administrator. If the plan had plan sponsors other than the plan sponsor on the most recent Form 5500, provide the names and EINs of the prior plan sponsors and include the date of change.

4. Name, date of birth, mailing address, email address, telephone number and SSN of each participant or former participant with respect to whom any amount of the vested benefit was distributed under section 401(a)(31)(B) of the Code.

5. With respect to such participant or former participant, the name of the designated trustee or issuer described in section 401(a)(31)(B) of the Code.

6. With respect to such participant or former participant, the address of the designated trustee or issuer described in section 401(a)(31)(B) of the Code.

7. With respect to such participant or former participant, the amount of the distribution.

8. With respect to such participant or former participant, the account number of the individual retirement plan to which the amount was distributed.

9. With respect to such participant or former participant, the name, date of birth, mailing address, email address, telephone number, and SSN of any designated beneficiary.

V. Plans That Distributed Annuities

For any plan that distributed benefits pursuant to an annuity contract described in 29 CFR 2510.3-3(d)(2)(ii), provide the following information with respect to the plan:

1. Name and plan number of plan as reflected on the most recent Form 5500. If the plan had names other than the name on the most recent Form 5500, provide the prior names and plan numbers to include the date of change.

2. Name, EIN, mailing address, and telephone number of the current plan administrator as reflected on the most recent Form 5500. If the plan had plan administrators other than the plan administrator on the most recent Form 5500, provide the names and EINs of the prior plan administrators and include the date of change.

3. Name, EIN, mailing address, and telephone number of plan sponsor as reflected on the most recent Form 5500, if different than the plan administrator. If the plan had plan sponsors other than the plan sponsor on the most recent Form 5500, provide the names and EINs of the prior plan sponsors and include the date of change.

4. Name, date of birth, SSN, mailing address, email address, and telephone number of each participant or former participant with respect to whom an annuity contract, described in 29 CFR 2510.3-3(d)(2)(ii), was distributed.

5. With respect to such participant or former participant, the name of the issuer of the annuity contract.

6. With respect to such participant or former participant, the address of the issuer of the annuity contract.

7. With respect to such participant or former participant, the contract or certificate number.

8. With respect to such participant or former participant, the name, date of birth, mailing, address, email address, telephone number, and SSN of any designated beneficiary.

VI. Method of Transmitting Data

To minimize public burden, plan administrators (or their authorized representatives, such as recordkeepers) will be able to electronically submit this data described in this proposed ICR as an attachment to this year's EFAST2 filing. The Department also is looking to establish a portal for plan administrators to submit the information directly into the Lost and Found database as an alternative to submitting the information as an attachment to the Form 5500 using EFAST2. The Department will provide the spreadsheet file template (CSV format), and intends to make available a model format that plan administrators could use to submit the information.

Multiple security measures will be in place to protect plan participant and beneficiary data (i.e., Social Security numbers) in the Department's Lost and Found online searchable database. A public user will have no access to sensitive data. Government access to the data will also be strictly controlled, which will be encrypted both at rest and in transit. The database will implement extensive logging and monitoring mechanisms, and sensitive data masking techniques will be implemented to mask personally identifiable information.

VII. Focus of Comments

The Department is particularly interested in comments that:

• Evaluate whether the collections of information are necessary for the proper performance of the functions of the agency, including whether the information will have practical utility;

• Evaluate the accuracy of the agency's estimate of the collections of information;

• Enhance the quality, utility, and clarity of the information to be collected; and

• Minimize the burden of the collection of information on those who are to respond, including through the use of appropriate automated, electronic, mechanical, or other technological collection techniques or other forms of information technology, e.g., by permitting electronic submissions of responses.

Comments submitted in response to this notice will be summarized and/or included in the ICRs for OMB approval of the information collection; they will also become a matter of public record.

Signed in Washington, DC, on April 9, 2024.
Lisa M. Gomez,
Assistant Secretary, Employee Benefits Security Administration, U.S. Department of Labor.

[FR Doc. 2024-07968 Filed 4-15-24; 8:45 am]

BILLING CODE 4510-29-P